DEPARTMENT OF THE INTERIOR

National Park Service

36 CFR Part 7

[NPS-PWR-GOGA-24579; PPPWGOGAPO, PPMPSPD1Z.YM0000]

Withdrawal of Proposed Rule for Dog Management at the Golden Gate National Recreation Area, California

AGENCY: National Park Service, Interior.

ACTION: Withdrawal of proposed rule.

SUMMARY: The National Park Service (NPS) no longer intends to prepare a final rule or issue a Golden Gate National Recreation Area dog management plan. The NPS has terminated the rulemaking process.

DATES: The proposed rule is withdrawn as of December 27, 2017.

FOR FURTHER INFORMATION CONTACT: Dana Polk, Public Affairs Office, Park Headquarters, Fort Mason, Building 201, San Francisco, CA 94123; phone 415-561-4728.

SUPPLEMENTARY INFORMATION: Pursuant to the National Environmental Policy Act (NEPA) and the regulations implementing NEPA (40 CFR parts 1500-1508 and 43 CFR part 46), the NPS published a proposed rule for dog management on February 24, 2016 (81 FR 9139). The NPS has now cancelled that planning process and terminated the associated NEPA and rulemaking processes. No final rule will be issued.

Dated: December 19, 2017.
Martha J. Lee,
Acting Regional Director, Pacific West Region.

[FR Doc. 2017-27827 Filed 12-26-17; 8:45 am]

BILLING CODE 4312-52-P